DEPARTMENT OF TRANSPORTATION

Saint Lawrence Seaway Development Corporation

Saint Lawrence Seaway Development Corporation Advisory Board—Notice of Public Meetings

AGENCY: Saint Lawrence Seaway Development Corporation (SLSDC); DOT.

ACTION: Notice of public meeting.

SUMMARY: This notice announces the public meeting via conference call of the Saint Lawrence Seaway Development Corporation Advisory Board.

DATES: The public meeting will be held on (all times Eastern):

• Monday, August 28, 2017, from 2:00 p.m.-4:00 p.m.

ADDRESSES: The meeting will be held via conference call at the SLSDC's Policy Headquarters, 55 M Street SE., Suite 930, Washington, DC 20003.

FOR FURTHER INFORMATION CONTACT: Wayne Williams, Chief of Staff, Saint Lawrence Seaway Development Corporation, 1200 New Jersey Avenue SE., Washington, DC 20590; 202-366-0091.

SUPPLEMENTARY INFORMATION: Pursuant to Section 10(a)(2) of the Federal Advisory Committee Act (Pub. L. 92-463; 5 U.S.C. App. I), notice is hereby given of a meeting of the Advisory Board of the Saint Lawrence Seaway Development Corporation (SLSDC). The agenda for this meeting will be as follows:

August 28, 2017, from 2:00 p.m.-4:00 p.m.

1. Opening Remarks

2. Consideration of Minutes of Past Meeting

3. Quarterly Report

4. Old and New Business

5. Closing Discussion

6. Adjournment

Public Participation

Attendance at the meeting is open to the interested public but limited to the space available. With the approval of the Administrator, members of the public may present oral statements at the meeting. Persons wishing further information should contact the person listed in the FOR FURTHER INFORMATION CONTACT, not later than Monday, August 21, 2017. Any member of the public may present a written statement to the Advisory Board at any time.

Issued on: July 31, 2017.
Carrie Lavigne
Chief Counsel, Saint Lawrence Seaway Development Corporation.

[FR Doc. 2017-16471 Filed 8-3-17; 8:45 am]

BILLING CODE P